DEPARTMENT OF COMMERCE

International Trade Administration

[C-570-089]

Steel Racks and Parts Thereof From the People's Republic of China: Final Results of the Expedited Sunset Review of the Countervailing Duty Order

AGENCY: Enforcement and Compliance, International Trade Administration, Department of Commerce.

SUMMARY: The U.S. Department of Commerce (Commerce) finds that revocation of the countervailing duty (CVD) order on steel racks and parts thereof (steel racks) from the People's Republic of China (China) would be likely to lead to continuation or recurrence of countervailable subsidies at the levels indicated in the “Final Results of the Sunset Review” section of this notice.

DATES: Applicable December 6, 2024.

FOR FURTHER INFORMATION CONTACT: Stephanie Trejo, AD/CVD Operations, Office IV, Enforcement and Compliance, International Trade Administration, U.S. Department of Commerce, 1401 Constitution Avenue NW, Washington, DC 20230; telephone: (202) 482-4390.

SUPPLEMENTARY INFORMATION:

Background

On September 16, 2019, Commerce published the Order on steels racks from China.¹ On August 1, 2024, Commerce published the notice of initiation of the first sunset review of the Order, pursuant to section 751(c) of the Tariff Act of 1930, as amended (the Act), and 19 CFR 351.218(c).² On August 16, 2024, Commerce received a notice of intent to participate in this review from the Coalition for Fair Rack Imports (CFRI), the domestic interested party, within the 15-day deadline specified in 19 CFR 351.218(d)(1)(i).³ CFRI claimed interested party status within the meaning of section 771(9)(E) of the Act and 19 CFR 351.102(b)(17) as a trade or business association a majority of whose members manufacture, produce, or wholesale a domestic like product in the United States.⁴

¹ See Certain Steel Racks and Parts Thereof From the People's Republic of China: Amended Final Affirmative Antidumping Duty Determination and Antidumping Duty Order; and Countervailing Duty Order, 84 FR 48584 (September 16, 2019) (Order).

² See Initiation of Five-Year (Sunset) Reviews, 89 FR 62717 (August 1, 2024).

³ See CFRI's Letter, “Notice of Intent to Participate in the First Five-Year Review of the Countervailing Duty Order on Certain Steel Racks and Parts Thereof from the People's Republic of China,” dated August 16, 2024.

⁴ Id. at 2.

On September 3, 2024, Commerce received an adequate substantive response from CFRI, within the 30-day deadline specified in 19 CFR 351.218(d)(3)(i).⁵ Commerce did not receive a substantive response from either the Government of China or any respondent interested party to this proceeding. On September 24, 2024, Commerce notified the U.S. International Trade Commission that it did not receive an adequate substantive response from any respondent interested parties.⁶ As a result, Commerce conducted an expedited (120-day) sunset review of the Order, pursuant to section 751(c)(3)(B) of the Act and 19 CFR 351.218(e)(1)(ii)(B)(2) and (C)(2).

⁵ See CFRI's Letter, “Certain Steel Racks and Parts Thereof from the People's Republic of China: Domestic Interested Party's Substantive Response to the Notice of Initiation,” dated September 3, 2024.

⁶ See Commerce's Letter, “Sunset Reviews Initiated August 1, 2024,” dated September 24, 2024.

Scope of the Order

The merchandise covered by this Order is steel racks. For a complete description of the scope of the Order, see the Issues and Decision Memorandum.⁷

⁷ See Memorandum, “Issues and Decision Memorandum for the Final Results of the Expedited First Sunset Review of the Countervailing Duty Order on Steel Racks and Parts Thereof from the People's Republic of China,” dated concurrently with, and hereby adopted by, this notice (Issues and Decision Memorandum).

Analysis of Comments Received

A complete discussion of all issues raised in this sunset review, including the likelihood of continuation or recurrence of subsidization in the event of revocation of the Order and the countervailable subsidy rates likely to prevail if the Order were to be revoked, is provided in the Issues and Decision Memorandum. A list of the topics discussed in the Issues and Decision Memorandum is attached as an appendix to this notice. The Issues and Decision Memorandum is a public document and is on file electronically via Enforcement and Compliance's Antidumping and Countervailing Duty Centralized Electronic Service System (ACCESS), which is available to registered users at https://access.trade.gov. In addition, a complete version of the Issues and Decision Memorandum can be accessed directly at https://access.trade.gov/public/FRNoticesListLayout.aspx.

Final Results of Sunset Review

Pursuant to sections 751(c) and 752(b) of the Act, we determine that revocation of the Order would be likely to lead to continuation or recurrence of countervailable subsidies at the following net subsidy rates:

Company | Subsidy rate (percent ad valorem)
Designa Inc | 102.23
Dongguan Baike Electronic Co., Ltd | 102.23
Ezidone Display Corp. Ltd | 102.23
Fenghua Huige Metal Products Co., Ltd | 102.23
Formost Plastic Metal Works (Jiaxing) Co., Ltd | 102.23
Jiangsu Kingmore Storage Equipment Manufacturing Co., Ltd | 102.23
Nanjing Dongsheng Shelf Manufacturing Co., Ltd | 1.50
Nanjing Huade Storage Equipment Manufacture Co., Ltd | 102.23
Ningbo Bocheng Home Products Co., Ltd | 102.23
Ningbo Joys Imp. & Exp. Co., Ltd | 102.23
Ningbo Li Zhan Import & Export Co | 102.23
Qingdao Haineng Hardware Products Co., Ltd | 102.23
Qingdao Huatian Hand Truck Co., Ltd | 102.23
Qingdao Zeal-Line Stainless Steel Products Co., Ltd | 102.23
Seven Seas Furniture Industrial (Xiamen) Co., Ltd | 102.23
Shijiazhuang Wells Trading & Mfg. Co., Ltd | 102.23
Tangshan Apollo Energy Equipment Company | 102.23
All Others | 1.50

Administrative Protective Order (APO)

This notice serves as the only reminder to parties subject to an APO of their responsibility concerning the disposition of proprietary information disclosed under APO in accordance with 19 CFR 351.305, which continues to govern business proprietary information in this segment of the proceeding. Timely notification of the return or destruction of APO materials or conversion to judicial protective order is hereby requested. Failure to comply with the regulations and the terms of an APO is a sanctionable violation.

Notification to Interested Parties

Commerce is issuing and publishing these final results and this notice in accordance with sections 751(c), 752(b), and 777(i)(1) of the Act, and 19 CFR 351.218.

Dated: November 29, 2024.
Steven Presing,
Acting Deputy Assistant Secretary for Policy and Negotiations.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2024-28506 Filed 12-5-24; 8:45 am]

BILLING CODE 3510-DS-P